DEPARTMENT OF HEALTH AND HUMAN SERVICES

Administration for Children and Families

[OMB No. 0970-0410]

Proposed Information Collection Activity; Comment Request

Title: Tribal PREP Implementation Plan.

Description: This request to collect information for the Tribal PREP Implementation Plan, is due by July 1, 2017. This plan will contain the description of how the grantee intends to structure, measure and evaluate the implementation of the project. Information contained in this Implementation Plan will enable the Program Office to provide the necessary technical assistance to help ensure that grantees are structuring Tribal PREP projects within the framework of PREP design guidance, including mandated adult preparation subjects, Positive Youth Development and evidence-based programming.

Respondents:

Annual Burden Estimates
Instrument | Number of respondents | Number of responses per respondent | Average burden hours per response | Total burden hours
Tribal PREP Plan | 10 | 1 | 40 | 400

Estimated Total Annual Burden Hours: 400.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade SW., Washington, DC 20447, Attn: ACF Reports Clearance Officer. Email address: infocollection@acf.hhs.gov. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-00595 Filed 1-13-16; 8:45 am]

BILLING CODE 4184-01-P